DEPARTMENT OF TRANSPORTATION

Maritime Administration

U.S. Merchant Marine Academy Board of Visitors Notice of Meeting

AGENCY: Maritime Administration, DOT.

ACTION: Meeting Notice.

SUMMARY: Under the provisions of the Federal Advisory Committee Act of 1972 (5 U.S.C., Appendix, as amended), the Government in Sunshine Act of 1976 (5 U.S.C. 552b, as amended) and 41 CFR 102-3.150, the U.S. Department of Transportation, Maritime Administration (MARAD) announces that the following U.S. Merchant Marine Academy (“Academy”) Board of Visitors meeting will take place:

1. Date: July 16, 2014.

2. Time: 10:00 to 11:00 a.m.

3. Requirements for Access: Members of the public wishing to attend the meeting will need to show photo identification in order to gain access to the meeting location. All participants are subject to security screening.

4. Location: The Capital Visitors Center, Room SVC 203, Washington, DC.

5. Purpose of the Meeting: The purpose of this meeting is for the Board of Visitors to receive the recommendations of the U.S. Merchant Marine Academy Advisory Board on Academy operations and to update the Board of Visitors on Academy issues.

6. Public Access to the Meeting: Pursuant to the Federal Advisory Committee Act (5 U.S.C. 552b and 41 CFR 102-3.140 through 102-3.165 and the availability of space, this meeting is open to the public. Seating is on a first-come basis.

FOR FURTHER INFORMATION CONTACT: The Board of Visitor's Designated Federal Officer or Point of Contact: Brian Blower and 202-266-2765 or brian.blower@dot.gov.

SUPPLEMENTARY INFORMATION: Any member of the public is permitted to file a written statement with the Academy Board of Visitors. Written statements should be sent to the Designated Federal Officer at: Brian Blower, Maritime Administration, 1200 New Jersey Avenue SE., Washington, DC 20590 or faxed to 202-366-3890. Written statements must be received no later than five working days prior to the next meeting in order to provide time for member consideration. By rule, no member of the public attending open meetings will be allowed to present questions from the floor or speak to any issue under consideration by the Board of Visitors.

Authority: 46 U.S.C. 51312; 5 U.S.C. app. 552b; 41 CFR parts 102-3.140 through 102-3.165.

By Order of the Maritime Administrator.
Dated: June 30, 2014.
Christine Gurland,
Acting Secretary, Maritime Administration.

[FR Doc. 2014-15691 Filed 7-2-14; 8:45 am]

BILLING CODE 4910-81-P